DEPARTMENT OF AGRICULTURE

Guidelines for Designating Biobased Products for Federal Procurement

AGENCY: Office of Procurement and Property Management, USDA.

ACTION: Notice of request for extension of a currently approved information collection.

SUMMARY: In accordance with the Paperwork Reduction Act of 1995 (44 U.S.C. Chapter 35), this notice announces that the Department of Agriculture, Office of Procurement and Property Management, is hereby requesting an extension of a currently approved information collection, Guidelines for Designating Biobased Products for Federal Procurement.

DATES: Comments received by January 6, 2015 will be considered.

ADDRESSES: You may submit comments by any of the following methods. All submissions received must include the agency name. Also, please identify submittals as pertaining to the “Notice of Request for Extension of a Currently Approved Information Collection.”

• Federal eRulemaking Portal: http://www.regulations.gov. Follow the instructions for submitting comments.

• Email: biopreferred@usda.gov. Include “Notice of Request for Extension of a Currently Approved Information Collection” on the subject line. Please include your name and address in your message.

• Mail/commercial/hand delivery: Mail or deliver your comments to: Ron Buckhalt, USDA, Office of Procurement and Property Management, Room 361, Reporters Building, 300 7th St. SW., Washington, DC 20024.

• Persons with disabilities who require alternative means for communication for regulatory information (Braille, large print, audiotape, etc.) should contact the USDA TARGET Center at (202)720-2600 (voice) and (202)690-0942 (TTY).

FOR FURTHER INFORMATION CONTACT: Ron Buckhalt, USDA, Office of Procurement and Property Management, Room 361, Reporters Building, 300 7th St. SW., Washington, DC 20024; email: biopreferred@usda.gov; phone (202) 205-4008. Information regarding the Federal biobased preferred procurement program (one part of the BioPreferred Program) is available on the Internet at http://www.biopreferred.gov.

SUPPLEMENTARY INFORMATION: Title: Guidelines for Designating Biobased Products for Federal Procurement.

OMB Control Number: 0503-0011.

Type of Request: Extension of a currently approved information collection.

Abstract: The USDA BioPreferred Program provides that qualifying biobased products that fall under product categories (generic groups of biobased products) that have been designated for preferred procurement by rule making are required to be purchased by Federal agencies in lieu of their fossil energy-based counterparts, with certain limited exceptions. Further, USDA is required by section 9002 of the Farm Security and Rural Investment Act of 2002, as amended by the Food, Conservation, and Energy Act of 2008 and the Agricultural Act of 2014, to provide certain information on qualified biobased products to Federal agencies. To meet these statutory requirements, USDA will gather that information from manufacturers and vendors of biobased products. The information sought by USDA can be transmitted electronically using the Web site http://www.biopreferred.gov. If for any reason the requested information cannot be electronically transmitted, USDA will provide technical assistance to support the transmission of information to USDA. The information collected will enable USDA to meet statutory information requirements that will then permit USDA to designate product categories for preferred procurement under the BioPreferred Program. Once product categories are designated, manufacturers and vendors of qualifying biobased products that fall under these designated product categories will benefit from preferred procurement by Federal agencies.

Estimate of Burden: Public reporting burden for this collection of information is estimated to average 40 hours per response.

Respondents: Manufacturers and vendors of biobased products.

Estimated Annual Number of Respondents: 220.

Estimated Number of Responses per Respondent: One per manufacturer or vendor.

Estimated Total Annual Burden on Respondents: 8,800 hours, one time only. Manufacturers and vendors are asked to respond only once. Therefore, there is no ongoing annual paperwork burden on respondents.

Comments are invited on: (1) whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: October 29, 2014.
Gregory L. Parham,
Assistant Secretary For Administration, U.S. Department of Agriculture.

[FR Doc. 2014-26458 Filed 11-6-14; 8:45 am]

BILLING CODE 3410-93-P